DEPARTMENT OF THE INTERIOR

National Park Service

Public Notice

AGENCY: National Park Service, Interior.

SUMMARY: Pursuant to the terms of existing concession contracts, public notice is hereby given that the National Park Service intends to request a continuation of visitor services for a period not-to-exceed 1 year from the date of contract expiration.

SUPPLEMENTARY INFORMATION: The contracts listed below have been extended to maximum allowable under 36 CFR 51.23. Under the provisions of current concession contracts and pending the completion of the public solicitation of a prospectus for a new concession contract, the National Park Service authorizes continuation of visitor services for a period not-to-exceed 1 year under the terms and conditions of the current contract as amended. The continuation of operations does not affect any rights with respect to selection for award of a new concession contract.

Concid# | Concessioner name | Park
BIBE002-82 | Forever Resorts, LLC | Big Bend National Park.
BLR1007-82 | Forever Resorts, LLC | Blue Ridge Parkway.
ISRO002-82 | Forever Resorts, LLC | Isle Royale National Park.
MACA002-82 | Forever Resorts, LLC | Mammoth Cave Nationall Park.
OLYM003-82 | Forever Resorts, LLC | Olympic National Park.

DATES: Effective Date: October 1, 2005.

FOR FURTHER INFORMATION CONTACT: Jo. A. Pendry, Concession Program Manager, National Park Service, Washington, DC 20240, Telephone, (202) 512-7156.

Dated: September 7, 2005.
Jo A. Pendry,
Acting Assistant Director, Business Services.

[FR Doc. 05-20916 Filed 10-18-05; 8:45 am]

BILLING CODE 4312-53-M